DEPARTMENT OF JUSTICE

Antitrust Division

Notice Pursuant to the National Cooperative Research and Production Act of 1993; Digital Body Development System

Notice is hereby given that, on June 14, 2007, pursuant to Section 6(a) of the National Cooperative Research and Production Act of 1993, 15 U.S.C. 4301 et seq. (“the Act”), Digital Body Development System (“DBDS”) has filed written notifications simultaneously with the Attorney General and the Federal Trade Commission disclosing changes in its membership. The notifications were filed for the purpose of extending the Act's provisions limiting the recovery of antitrust plaintiffs to actual damages under specified circumstances. Specifically, Riviera Tool Company, Grand Rapids, MI has withdrawn as a party to this venture.

No other changes have been made in either the membership or planned activity of the group research project. Membership in this group research project remains open, and DBDS intends to file additional written notifications disclosing al changes in membership.

On March 19, 2007, DBDS filed its original notification pursuant to Section 6(a) of the Act. The Department of Justice published a notice in the Federal Register pursuant to Section 6(b) of the Act on May 7, 2007 (72 FR 25781).

Patricia A. Brink,
Deputy Director of Operations, Antitrust Division.

[FR Doc. 07-3514 Filed 7-18-07; 8:45 am]

BILLING CODE 4410-11-M